EXPORT-IMPORT BANK OF THE UNITED STATES

Economic Impact Policy

This notice is to inform the public that the Export-Import Bank of the United States has received an application to finance the export of approximately $29.5 million in U.S. machine tooling equipment to a company in China. The U.S. exports will enable the Chinese company to establish production of 180 metal-stamping dies per year. These products will be utilized by companies in China to manufacture medium- to large-sized auto body parts. A portion of this new production will be employed internally by the Chinese company itself to manufacture medium-to large-sized auto body parts for sale to Chinese automobile manufacturers/assemblers. No automobiles will be produced by this Chinese firm. This Chinese company's average annual production capacity of auto body parts will be enough to contribute to the production of approximately 380,000 automobiles per year during the 7-year repayment term of the loan. Available information indicates that all of this new Chinese production will be consumed in China. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. E7-7924 Filed 4-24-07; 8:45 am]

BILLING CODE 6690-01-P